DEPARTMENT OF HOMELAND SECURITY

Coast Guard

33 CFR Part 100

[Docket No. CGD13-07-016]

RIN 1625-AA08

Annual Seattle Yacht Club's “Opening Day” Marine Parade

AGENCY: Coast Guard, DHS.

ACTION: Notice of enforcement.

SUMMARY: The Coast Guard will enforce the Annual Seattle Yacht Club's “Opening Day” Marine Parade Special Local Regulations in Portage Bay, Portage Cut (Montlake Cut), and Union Bay from 8 a.m. to 3 p.m. on May 5, 2007. This action is necessary to ensure the safety of participants and spectators during the Annual Seattle Yacht Club's “Opening Day” Marine Parade. During the enforcement period, the regulated area shall be closed to all vessel traffic not participating in the event and authorized by the event sponsor or Coast Guard Patrol Commander.

DATES: The regulations in 33 CFR 100.1304 will be enforced from 8 a.m. to 3 p.m. on May 5, 2007.

FOR FURTHER INFORMATION CONTACT: Lieutenant Steve Kee, c/o Captain of the Port Puget Sound, Coast Guard Sector Seattle, 1519 Alaskan Way South, Seattle, WA 98134 at (206) 217-6002.

SUPPLEMENTARY INFORMATION: On May 4, 1989, the Coast Guard published a final rule (54 FR 19167) which established a Special Local Regulation (SLR) and modified the regulations in 33 CFR 100.1304 for the safe execution of the Annual Seattle Yacht Club's “Opening Day” Marine Parade on the waters of Portage Bay, Portage Cut (Montlake Cut), and Union Bay. This SLR provides for a regulated area to protect spectators and parade participants. Movements are regulated for all vessels in the area as described under 33 CFR 100.1304 or unless otherwise regulated by the Captain of the Port or his designee. The Coast Guard may be assisted by other Federal, State, or local law enforcement agencies in enforcing this SLR.

The Coast Guard will enforce the SLR for the Annual Seattle Yacht Club's “Opening Day” Marine Parade, Seattle, WA in 33 CFR 100.1304 on May 5, 2007, from 8 a.m. to 3 p.m.

Under the provisions of 33 CFR 100.1304, the regulated area shall be closed for the duration of the event to all vessel traffic not participating in the event and authorized by the event sponsor or Coast Guard Patrol Commander. All persons or vessels not registered with the sponsor as participants or not part of the regatta patrol are considered spectators. Spectator vessels must be at anchor within a designated spectator area or moored to a waterfront facility in a way that will not interfere with the progress of the event. The following are established as spectator areas:

(i) Northwest of the University Bridge.

(ii) North of the log boom that will be placed in Union Bay.

(iii) East of Webster Point so as not to interfere with the participating vessels departing Union Bay.

No spectators shall anchor, block, loiter in, or impede the through transit of participants or official patrol vessels in the regulated area during the effective dates and times unless cleared for such entry by the Patrol Commander.

Due to the large number of craft confined within this small body of water, all vessels, both spectator and participants, will maintain a “NO WAKE” speed. This requirement will be strictly enforced to preserve the safety of both life and property.

The Coast Guard may be assisted by other Federal, State, or local law enforcement agencies in enforcing this regulation.

This notice is issued under authority of 33 CFR 100.1304 (c) and 5 U.S.C. 552 (a).

Dated: April 20, 2007.
Mark J. Huebschman,
Commander, U.S. Coast Guard, Captain of the Port, Puget Sound, Acting.

[FR Doc. E7-8606 Filed 5-4-07; 8:45 am]

BILLING CODE 4910-15-P